DEPARTMENT OF ENERGY

Federal Energy Regulatory Commission

Combined Notice of Filings #1

Take notice that the Commission received the following exempt wholesale generator filings:

Docket Numbers: EG19-72-000.

Applicants: Endeavor Wind I, LLC

Description: Notice of Self-Certification of Exempt Wholesale Generator Status of Endeavor Wind I, LLC.

Filed Date: 3/14/19.

Accession Number: 20190314-5159.

Comments Due: 5 p.m. ET 4/4/19.

Docket Numbers: EG19-73-000.

Applicants: Endeavor Wind II, LLC.

Description: Notice of Self-Certification of Exempt Wholesale Generator Status of Endeavor Wind II, LLC.

Filed Date: 3/14/19.

Accession Number: 20190314-5162.

Comments Due: 5 p.m. ET 4/4/19.

Docket Numbers: EG19-74-000.

Applicants: AES Lawa'i Solar, LLC.

Description: Notice of Self-Certification of Exempt Wholesale Generator Status of AES Lawa'i Solar, LLC.

Filed Date: 3/15/19.

Accession Number: 20190315-5099.

Comments Due: 5 p.m. ET 4/5/19.

Docket Numbers: EG19-75-000.

Applicants: Avangrid Renewables, LLC.

Description: Avangrid Renewables, LLC Notice of Self-Certification of Exempt Wholesale Generator Status.

Filed Date: 3/15/19.

Accession Number: 20190315-5182.

Comments Due: 5 p.m. ET 4/5/19.

Docket Numbers: EG19-76-000.

Applicants: Avangrid Renewables, LLC.

Description: Notice of Self-Certification of Exempt Wholesale Generator Status of Avangrid Renewables, LLC.

Filed Date: 3/15/19.

Accession Number: 20190315-5202.

Comments Due: 5 p.m. ET 4/5/19.

Docket Numbers: EG19-77-000.

Applicants: Avangrid Renewables, LLC.

Description: Notice of Self-Certification of Exempt Wholesale Generator Status of Avangrid Renewables, LLC.

Filed Date: 3/15/19.

Accession Number: 20190315-5207.

Comments Due: 5 p.m. ET 4/5/19.

Take notice that the Commission received the following electric rate filings:

Docket Numbers: ER12-164-019.

Applicants: Bishop Hill Energy III LLC.

Description: Supplement to July 16, 2018 Notification of Change in Facts under Market-Based Rate Authority of Bishop Hill Energy III LLC.

Filed Date: 3/14/19.

Accession Number: 20190314-5195.

Comments Due: 5 p.m. ET 4/4/19.

Docket Numbers: ER12-673-012; ER10-1533-020; ER10-3230-010; ER10-3231-007; ER10-3232-010; ER10-3233-007; ER10-3237-010; ER10-3239-010; ER10-3240-010; ER10-3253-010; ER12-670-011; ER12-672-012; ER12-674-011; ER13-1485-010; ER14-1777-009; ER15-2722-006; ER18-1310-001; ER18-2264-003; ER18-552-001; ER19-289-003; ER19-461-001.

Applicants: Brea Generation LLC, Brea Power II, LLC, Clean Energy Future—Lordstown, LLC, Cleco Cajun LLC, Macquarie Energy LLC, Macquarie Energy Trading LLC, Rhode Island Engine Genco, LLC, Rhode Island LFG Genco, LLC, Wheelabrator Baltimore, L.P., Wheelabrator Bridgeport, L.P., Wheelabrator Concord Company, L.P., Wheelabrator Falls Inc., Wheelabrator Frackville Energy Company Inc., Wheelabrator Millbury Inc., Wheelabrator North Andover Inc., Wheelabrator Portsmouth Inc., Wheelabrator Ridge Energy Inc., Wheelabrator Saugus Inc., Wheelabrator Shasta Energy Company Inc., Wheelabrator South Broward Inc., Wheelabrator Westchester, L.P.

Description: Notice of Non-Material Change in Status of Brea Generation LLC, et al.

Filed Date: 3/14/19.

Accession Number: 20190314-5191.

Comments Due: 5 p.m. ET 4/4/19.

Docket Numbers: ER19-1251-000.

Applicants: PSEG Energy Resources & Trade LLC, PSEG Nuclear LLC.

Description: Request for Waiver of PSEG Energy Resources & Trade LLC on behalf of its affiliate, PSEG Nuclear LLC.

Filed Date: 3/12/19.

Accession Number: 20190312-5074.

Comments Due: 5 p.m. ET 3/22/19.

Docket Numbers: ER19-1301-000.

Applicants: PJM Interconnection, L.L.C.

Description: § 205(d) Rate Filing: Revisions to Sch. 12-Appx A: Feb 2019 RTEP, 30-day Comments due April 13, 2019 to be effective 6/12/2019.

Filed Date: 3/14/19.

Accession Number: 20190314-5135.

Comments Due: 5 p.m. ET 4/4/19.

Docket Numbers: ER19-1302-000.

Applicants: PJM Interconnection, L.L.C.

Description: § 205(d) Rate Filing: Original ISA, SA No. 5300; Queue No. AB2-093 to be effective 2/12/2019.

Filed Date: 3/14/19.

Accession Number: 20190314-5137.

Comments Due: 5 p.m. ET 4/4/19.

Docket Numbers: ER19-1303-000.

Applicants: Westar Energy, Inc.

Description: Tariff Cancellation: Notice of Cancellation of Vol. No. 8, Mid-Kansas Electric Company to be effective 1/4/2019.

Filed Date: 3/14/19.

Accession Number: 20190314-5139.

Comments Due: 5 p.m. ET 4/4/19.

Docket Numbers: ER19-1308-000.

Applicants: AEP Texas Inc.

Description: § 205(d) Rate Filing: AEPTX-Monte Alto Windpower PDA to be effective 3/1/2019.

Filed Date: 3/15/19.

Accession Number: 20190315-5041.

Comments Due: 5 p.m. ET 4/5/19.

Docket Numbers: ER19-1312-000.

Applicants: Duke Energy Progress, LLC.

Description: Tariff Cancellation: DEP-VEPCO Facilities Agreement (RS No. 203) Cancellation to be effective 5/15/2019.

Filed Date: 3/15/19.

Accession Number: 20190315-5044.

Comments Due: 5 p.m. ET 4/5/19.

Docket Numbers: ER19-1313-000.

Applicants: Midcontinent Independent System Operator, Inc.

Description: § 205(d) Rate Filing: 2019-03-15_Tariff clean-up on Post Reserve Deployment Constraints to be effective 5/15/2019.

Filed Date: 3/15/19.

Accession Number: 20190315-5046.

Comments Due: 5 p.m. ET 4/5/19.

Docket Numbers: ER19-1314-000.

Applicants: Midcontinent Independent System Operator, Inc.

Description: § 205(d) Rate Filing: 2019-03-15_SA 3266 Jasper White Wind—NIPSCO GIA (J740) to be effective 3/4/2019.

Filed Date: 3/15/19.

Accession Number: 20190315-5058.

Comments Due: 5 p.m. ET 4/5/19.

Docket Numbers: ER19-1315-000.

Applicants: Louisville Gas and Electric Company.

Description: Tariff Cancellation: KyMEA NITSA Notice of Cancellation Svc Agmt 18 to be effective 5/1/2019.

Filed Date: 3/15/19.

Accession Number: 20190315-5064.

Comments Due: 5 p.m. ET 4/5/19.

Docket Numbers: ER19-1316-000.

Applicants: Louisville Gas and Electric Company.

Description: § 205(d) Rate Filing: KyMEA Wholesale Distribution Service Agreement to be effective 5/1/2019.

Filed Date: 3/15/19.

Accession Number: 20190315-5072.

Comments Due: 5 p.m. ET 4/5/19.

Docket Numbers: ER19-1332-000.

Applicants: New York Independent System Operator, Inc.

Description: § 205(d) Rate Filing: 205 filing re: Real-Time Market Settlements to be effective 5/15/2019.

Filed Date: 3/15/19.

Accession Number: 20190315-5123.

Comments Due: 5 p.m. ET 4/5/19.

Docket Numbers: ER19-1333-000.

Applicants: Mirabito Power & Gas, LLC.

Description: Baseline eTariff Filing: MPG_MBR_initial_tariff to be effective 3/31/2019.

Filed Date: 3/15/19.

Accession Number: 20190315-5149.

Comments Due: 5 p.m. ET 4/5/19.

Docket Numbers: ER19-1337-000

Applicants: PJM Interconnection, L.L.C.

Description: § 205(d) Rate Filing: Original WMPA SA No. 5314; Queue No. AE1-081 to be effective 2/17/2019.

Filed Date: 3/15/19.

Accession Number: 20190315-5166.

Comments Due: 5 p.m. ET 4/5/19.

Docket Numbers: ER19-1338-000.

Applicants: DATC SLTP, LLC

Description: Baseline eTariff Filing: Initial SLTP Rate Schedule Filing to be effective 5/15/2019.

Filed Date: 3/15/19.

Accession Number: 20190315-5178.

Comments Due: 5 p.m. ET 4/5/19.

Docket Numbers: ER19-1339-000.

Applicants: Duke Energy Carolinas, LLC.

Description: § 205(d) Rate Filing: Revisions to Joint OATT Formula Rates—Recovery of DEP 2018 Storm Costs to be effective 5/15/2019.

Filed Date: 3/15/19.

Accession Number: 20190315-5179.

Comments Due: 5 p.m. ET 4/5/19.

Docket Numbers: ER19-1340-000.

Applicants: Northern States Power Company, a Minnesota corporation, Northern States Power Company, a Wisconsin corporation.

Description: § 205(d) Rate Filing: 2019 Interchange Agreement Annual Filing to be effective 1/1/2019.

Filed Date: 3/15/19.

Accession Number: 20190315-5197.

Comments Due: 5 p.m. ET 4/5/19.

Docket Numbers: ER19-1341-000.

Applicants: PJM Interconnection, L.L.C.

Description: Tariff Cancellation: Notice of Cancellation of ICSA SA No. 4037; Queue No. X2-025/X4-019/Z1-090 to be effective 2/6/2019.

Filed Date: 3/15/19.

Accession Number: 20190315-5212.

Comments Due: 5 p.m. ET 4/5/19.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 15, 2019.
Nathaniel J. Davis, Sr.,
Deputy Secretary.

[FR Doc. 2019-05483 Filed 3-21-19; 8:45 am]

BILLING CODE 6717-01-P